DEPARTMENT OF ENERGY

Federal Energy Regulatory Commission

Combined Notice of Filings #2

Take notice that the Commission received the following electric rate filings:

Docket Numbers: ER15-929-002.

Applicants: Southwest Power Pool, Inc.

Description: Tariff Amendment per 35.17(b): Motion for Deferral in OMPA Revised Stated Rate—ER15-929 to be effective 12/31/9998.

Filed Date: 3/13/15.

Accession Number: 20150313-5176.

Comments Due: 5 p.m. ET 4/3/15.

Docket Numbers: ER15-1282-000.

Applicants: NorthWestern Corporation.

Description: § 205(d) rate filing per 35.13(a)(2)(iii): SA 28-SD First Revised—LGIA with Beethoven Wind LLC to be effective 3/17/2015.

Filed Date: 3/16/15.

Accession Number: 20150316-5077.

Comments Due: 5 p.m. ET 4/6/15.

Docket Numbers: ER15-1283-000.

Applicants: Southwestern Electric Power Company.

Description: § 205(d) rate filing per 35.13(a)(2)(iii): SWEPCO-Hope PSA Amendment to be effective 1/1/2015.

Filed Date: 3/16/15.

Accession Number: 20150316-5143.

Comments Due: 5 p.m. ET 4/6/15.

Docket Numbers: ER15-1287-000.

Applicants: PJM Interconnection, L.L.C.

Description: § 205(d) rate filing per 35.13(a)(2)(iii): First Revised Service Agreement No. 3669; Queue Nos. Y3-046, Y3-051, Z1-058 . . . to be effective 2/13/2015.

Filed Date: 3/16/15.

Accession Number: 20150316-5159.

Comments Due: 5 p.m. ET 4/6/15.

Docket Numbers: ER15-1289-000.

Applicants: Midcontinent Independent System Operator, Inc., Great River Energy.

Description: § 205(d) rate filing per 35.13(a)(2)(iii): 2015-03-16_GRE RTO Adder Filing to be effective 1/6/2015.

Filed Date: 3/16/15.

Accession Number: 20150316-5163.

Comments Due: 5 p.m. ET 4/6/15.

Docket Numbers: ER15-1290-000.

Applicants: PJM Interconnection, L.L.C.

Description: § 205(d) rate filing per 35.13(a)(2)(iii): First Revised Service Agreement No. 2775; Queue Nos. Y3-045, Y3-052, Y3-107 to be effective 2/13/2015.

Filed Date: 3/16/15.

Accession Number: 20150316-5168.

Comments Due: 5 p.m. ET 4/6/15.

Docket Numbers: ER15-1291-000.

Applicants: Public Service Company of Colorado.

Description: § 205(d) rate filing per 35.13(a)(2)(iii): 2015-3-16_PSC-PLND-A&R ISA 110-0.0.0-Agrmt to be effective 3/17/2015.

Filed Date: 3/16/15.

Accession Number: 20150316-5173.

Comments Due: 5 p.m. ET 4/6/15.

Docket Numbers: ER15-1292-000.

Applicants: PJM Interconnection, L.L.C.

Description: § 205(d) rate filing per 35.13(a)(2)(iii): First Revised Service Agreement No. 2181; Queue No. V4-045 to be effective 2/12/2015.

Filed Date: 3/16/15.

Accession Number: 20150316-5176.

Comments Due: 5 p.m. ET 4/6/15.

Docket Numbers: ER15-1293-000.

Applicants: Southwest Power Pool, Inc.

Description: § 205(d) rate filing per 35.13(a)(2)(iii): Revisions to Attachment AE Sections 4.5.2 and 4.5.3 to be effective 5/15/2015.

Filed Date: 3/16/15.

Accession Number: 20150316-5187.

Comments Due: 5 p.m. ET 4/6/15.

Docket Numbers: ER15-1294-000.

Applicants: Pacific Gas and Electric Company.

Description: Pacific Gas and Electric Company submits Notice of Termination of Agreement with the City of Los Angeles Department of Water and Power, Rate Schedule No. 131.

Filed Date: 3/16/15.

Accession Number: 20150316-5188.

Comments Due: 5 p.m. ET 4/6/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 16, 2015.
Nathaniel J. Davis, Sr.,
Deputy Secretary.

[FR Doc. 2015-06554 Filed 3-20-15; 8:45 am]

BILLING CODE 6717-01-P